SOCIAL SECURITY ADMINISTRATION

[Docket No. SSA 2011-0106]

Rescission of Social Security Acquiescence Rulings 92-2(6)

AGENCY: Social Security Administration.

ACTION: Notice of Rescission of Social Security Acquiescence Ruling (AR) 92-2(6)—Difford v. Sullivan, 910 F.2d 1316 (6th Cir. 1990).

SUMMARY: In accordance with 20 CFR 402.35(b)(2), 404.985(e) and 416.1485(e), the Commissioner of Social Security gives notice of the rescission of Social Security AR 92-2(6).

DATES: Effective Date: February 21, 2013.

FOR FURTHER INFORMATION CONTACT: Susan Dunigan, Office of Disability Programs, Social Security Administration, 6401 Security Boulevard, Baltimore, Maryland 21235-6401, (410)-966-5671 or TTY (800) 966-5609.

SUPPLEMENTARY INFORMATION: An AR explains how we will apply a holding in a decision of a United States Court of Appeals that we determine conflicts with our interpretation of a provision of the Social Security Act (the Act) or regulations when the Government has decided not to seek further review of that decision or is unsuccessful on further review.

As provided by 20 CFR 404.985(e)(4) and 416.1485(e)(4), we may rescind an AR as obsolete and apply our interpretation of the Act or regulations if we subsequently clarify, modify or revoke the regulation or ruling that was the subject of a circuit court holding that we determined conflicts with our interpretation of the Act or regulations.

On March 17, 1992, we issued AR 92-2(6) to reflect the decision of the United States Court of Appeals for the Sixth Circuit in Difford v. Sullivan, 910 F.2d 1316 (6th Cir. 1990), in which the court interpreted section 223 of the Act to require that when we review a medical disability cessation determination or decision, we must consider whether the beneficiary was disabled at any time through the date of the adjudicator's final determination or decision.

Concurrent with the rescission of this AR, we are publishing Social Security Ruling (SSR) 12-3p to change the period an adjudicator must consider when deciding an appeal of a title II medical cessation determination or decision. This Ruling also clarifies how this policy applies at the Appeals Council (AC) level when the AC denies a request for review or issues a remand or dismissal order. The adjudicator will consider a beneficiary's disability through the date on which we make the appeal determination or decision.

Because the SSR addresses the Difford court's concerns and explains that an appeal must have a determination or decision through the adjudication date, we are rescinding AR 92-2(6). The SSR and this rescission restore uniformity to our nationwide system of rules in accordance with our commitment to the goal of administering our programs through uniform national standards as discussed in the preamble to the 1998 acquiescence regulations, 63 FR 24927 (May 6, 1998).

Dated: February 12, 2013.
Michael J. Astrue,
Commissioner of Social Security.

[FR Doc. 2013-03913 Filed 2-20-13; 8:45 am]

BILLING CODE 4191-02-P